DEPARTMENT OF ENERGY

10 CFR Part 429

[EERE-2022-BT-TP-0028]

RIN 1904-AF49

Energy Conservation Program: Test Procedure for Central Air Conditioners and Heat Pumps

AGENCY: Office of Energy Efficiency and Renewable Energy, Department of Energy.

ACTION: Notice of proposed rulemaking and request for comment.

SUMMARY: The U.S. Department of Energy (DOE) proposes to delay the applicability of certain product-specific enforcement provisions related to the controls verification procedure established in a recently published final rule amending the test procedures for central air conditioners and heat pumps. DOE is seeking comment from interested parties on the proposal.

DATES: DOE will accept comments, data, and information regarding this proposal no later than June 30, 2025. See section IV of this document, “Submission of Comments,” for details.

ADDRESSES: Interested persons are encouraged to submit comments using the Federal eRulemaking Portal at www.regulations.gov under docket number EERE-2022-BT-TP-0028. Follow the instructions for submitting comments. Alternatively, interested persons may submit comments, identified by docket number EERE-2022-BT-TP-0028, by any of the following methods:

(1) Email: CACandHeatPump2022TP0028@ee.doe.gov. Include the docket number EERE-2022-BT-TP-0028 in the subject line of the message.

(2) Postal Mail: Appliance and Equipment Standards Program, U.S. Department of Energy, Building Technologies Office, Mailstop EE-5B, 1000 Independence Avenue SW, Washington, DC 20585-0121. Telephone: (202) 287-1445. If possible, please submit all items on a compact disc (CD), in which case it is not necessary to include printed copies.

(3) Hand Delivery/Courier: Appliance and Equipment Standards Program, U.S. Department of Energy, Building Technologies Office, 1000 Independence Avenue SW, Washington, DC 20585-0121. Telephone: (202) 287-1445. If possible, please submit all items on a CD, in which case it is not necessary to include printed copies.

No telefacsimiles (faxes) will be accepted. For detailed instructions on submitting comments and additional information on this process, see section IV of this document.

Docket: The docket for this activity, which includes Federal Register notices, public meeting attendee lists and transcripts (if a public meeting is held), comments, and other supporting documents/materials, is available for review at www.regulations.gov. All documents in the docket are listed in the www.regulations.gov index. However, not all documents listed in the index may be publicly available, such as information that is exempt from public disclosure.

The docket web page can be found at www.regulations.gov/docket/EERE-2022-BT-TP-0028. The docket web page contains instructions on how to access all documents, including public comments, in the docket. See section IV of this document for information on how to submit comments through www.regulations.gov.

FOR FURTHER INFORMATION CONTACT:

Ms. Julia Hegarty, U.S. Department of Energy, Office of Energy Efficiency and Renewable Energy, Building Technologies Office, EE-5B, 1000 Independence Avenue SW, Washington, DC 20585-0121. Telephone: (240) 255-0630. Email: ApplianceStandardsQuestions@ee.doe.gov.

Mr. Pete Cochran, U.S. Department of Energy, Office of the General Counsel, GC-33, 1000 Independence Avenue SW, Washington, DC 20585-0121. Telephone: (202) 586-4798. Email: peter.cochran@hq.doe.gov.

SUPPLEMENTARY INFORMATION:

Table of Contents

I. Authority and Background

II. Discussion

A. Summary of Comments Received

B. Conclusion and Proposal

III. Procedural Issues and Regulatory Review

IV. Submission of Comments

V. Approval of the Office of the Secretary

I. Authority and Background

The Energy Policy and Conservation Act, Public Law 94-163, as amended (EPCA),¹ authorizes DOE to regulate the energy efficiency of a number of consumer products and certain industrial equipment. (42 U.S.C. 6291-6317, as codified) Title III, Part B of EPCA ² established the Energy Conservation Program for Consumer Products Other Than Automobiles, which sets forth a variety of provisions designed to improve energy efficiency. Central air conditioners (CACs) and central air conditioning heat pumps (HPs) (collectively, CAC/HPs) are included in the list of “covered products” for which DOE is authorized to establish and amend energy conservation standards and test procedures. (42 U.S.C. 6292 (a)(3)) DOE's currently applicable test procedure for CAC/HPs is prescribed at 10 CFR part 430, subpart B, appendix M1 (appendix M1).

¹ All references to EPCA in this document refer to the statute as amended through the Energy Act of 2020, Public Law 116-260 (Dec. 27, 2020), which reflect the last statutory amendments that impact Parts A and A-1 of EPCA.

² For editorial reasons, upon codification in the U.S. Code, Part B was redesignated Part A.

On January 7, 2025, DOE published a final rule amending the Federal test procedure for CAC/HPs (January 2025 Final Rule). 90 FR 1224. The January 2025 Final Rule amended the currently applicable test procedure at appendix M1 and also established a new test procedure at 10 CFR part 430, subpart B, appendix M2 (“appendix M2”), the use of which would be required beginning on the compliance date of any future amended standards for CAC/HPs based on the new efficiency metrics established in appendix M2. Id. at 1284. Additionally, the January 2025 Final Rule established enforcement provisions related to the use of a controls verification procedure (CVP), to be conducted per industry standards AHRI 210/240-2024 and AHRI 1600-2024, for the purposes of assessment and enforcement testing of CAC/HPs. Id. at 1255-1265.

On January 20, 2025, President Trump issued the “Regulatory Freeze Pending Review” memorandum, which was published in the Federal Register on January 25, 2025. 90 FR 8249. This presidential action ordered all executive departments and agencies to consider postponing for 60 days from the date of the Presidential Memorandum the effective date of certain rules published in the Federal Register for the purpose of reviewing any questions of fact, law, and policy that the rules may raise. Additionally, executive departments and agencies were to consider opening a comment period to allow interested parties to provide comments about issues of fact, law, and policy raised by the rules postponed under the memorandum.

Consistent with the “Regulatory Freeze Pending Review” Presidential Memorandum of January 20, 2025, DOE delayed the effective date of the January 2025 Final Rule to March 21, 2025 (February 2025 delay of effective date). 90 FR 9001 (Feb. 5, 2025). DOE also requested comments on the impacts of a further delay of the test procedures as well as legal, factual, or policy issues raised by the rule.

DOE received comments in response to the February 2025 delay of effective date from the interested parties listed in Table I.1.

Table I.1—List of Commenters With Written Submissions in Response to the February 2025 Delay of Effective Date Notice
Commenter(s) | Reference in this NOPR | Comment No. in the docket | Commenter type
Air-Conditioning, Heating, and Refrigeration Institute | AHRI | 48 | Trade Association.
Bosch Home Comfort | Bosch | 51 | Manufacturer.
Pacific Gas and Electric Company, San Diego Gas and Electric, and Southern California Edison; collectively, the California Investor-Owned Utilities | CA IOUs | 56 | Utilities.
Carrier Global Corporation | Carrier | 45 | Manufacturer.
Daikin Comfort Technologies North America Inc | Daikin | 57 | Manufacturer.
Fujitsu General America, Inc | FGAI | 59 | Manufacturer.
GE Appliances | GE Appliances | 50 | Manufacturer.
Johnson Controls | JCI | 52 | Manufacturer.
Appliance Standards Awareness Project, American Council for an Energy-Efficient Economy, and National Consumer Law Center | Joint Advocates | 55 | Advocacy Organizations.
Lennox International Inc | Lennox | 46 | Manufacturer.
LG Electronics U.S.A., Inc | LG | 54 | Manufacturer.
Mitsubishi Electric US, Inc | Mitsubishi | 47 | Manufacturer.
Northwest Energy Efficiency Alliance | NEEA | 49 | Advocacy Organization.
Rheem Manufacturing Company | Rheem | 53 | Manufacturer.
Trane Technologies | Trane | 58 | Manufacturer.

A parenthetical reference at the end of a comment quotation or paraphrase provides the location of the item in the public record.³

³ The parenthetical reference provides a reference for information located in the docket of DOE's rulemaking to develop test procedures for insert product. (Docket No. EERE-2022-BT-TP-0028, which is maintained at: www.regulations.gov). The references are arranged as follows: (commenter name, comment docket ID number at page of that document).

In light of the comments received in response to the February 2025 delay of effective date, consistent with the Presidential memorandum of January 20, 2025, DOE further delayed the effective date of the January 2025 Final Rule by 60 days to May 20, 2025. 90 FR 13052 (Mar. 20, 2025).

The following section discusses DOE's further consideration of the comments received in response to the February 2025 delay of effective date regarding the effective date of the CVP provisions established by the January 2025 Final Rule.

II. Discussion

A. Summary of Comments Received

To the extent that commenters advocated for a further delay in the effective date of the January 2025 Final Rule, such concerns were largely limited to the CVP provisions established by the January 2025 Final Rule.

AHRI recommended that DOE further delay the compliance date of the CVP enforcement provisions to no sooner than July 2026 to provide additional time for laboratories to demonstrate testing performance within the CVP tolerances established in the January 2025 Final Rule. (AHRI, No. 48 at p.2) AHRI stated that it has begun to analyze round robin CVP test data being collected by third-party test laboratories and that it would work to collect additional test data during the 2025 certification program year. (Id.) AHRI commented that it would share relevant findings with DOE by Spring 2026. (Id.)

Comments from Bosch, Daikin, FGAI, JCI, and Rheem similarly recommended a delay of the CVP enforcement provisions until no sooner than July 2026. (Bosch, No. 51 at p. 2; Daikin, No. 57 at p. 2; FGAI, No. 59 at p. 2; JCI, No. 52 at pp. 1-2; Rheem, No. 53 at p. 2) Bosch asserted that, without sufficient time to demonstrate tolerances can be met, variable-speed systems would face inconsistent compliance requirements putting the products at a market disadvantage. (Bosch, No. 51 at p. 2) Daikin asserted that, without further delay of the CVP provisions, consumers would experience negative consequences in the form of either reduced product choice or products with reduced consumer utility. (Daikin, No. 57 at p. 2) Daikin cited concerns regarding procedure repeatability, demonstrability of tolerances, and a potential need for product redesign to comply with the CVP. (Id. at pp. 2-4) FGAI expressed concerns regarding the procedure's repeatability and lack of clarity dealing with defrost. (FGAI, No. 59 at p. 2) JCI expressed concerns regarding the CVP's technical complexity, repeatability, and specified parameters and tolerances. (JCI, No. 52 at p. 2) JCI also commented that it is still assessing its ability to perform CVP testing in all of its global laboratories, which may require controls algorithm updates and, in some case, conditioning equipment upgrades that take substantial capital investment and time to complete. (Id.)

GE Appliances requested that DOE either issue a policy stating that the CVP would not be used in enforcement testing until validated, and that the CVP would not apply to products using R-410A refrigerant; or use the notice and comment process to remove the CVP provisions from the CFR until they may be updated and replaced. (GE Appliances, No. 50 at p. 3) GE Appliances expressed concerns regarding the procedure's completeness, repeatability/reproducibility, lack of clarity dealing with defrost, and applicability to R-410A products. (Id. at pp. 1-2) GE Appliances asserted that, without further delay of these provisions, CVP enforcement would lead to reduced consumer choice and increased costs for CAC/HPs. (Id. at p. 2)

LG requested that DOE delay the effective date of the CVP enforcement provisions until either the compliance date of appendix M2, which would coincide with any future amended standards for CAC/HPs based on the new metrics established in appendix M2; or until no sooner than July 2028. (LG, No. 54 at p. 1) LG reiterated the importance of CVP tolerances to account for differences between regulatory testing and CVP test conditions, for example in indoor chamber temperature and humidity as well as airflow control settings. (Id.)

Mitsubishi urged DOE to indefinitely postpone the CVP enforcement provisions. (Mitsubishi, No. 47 at p. 1) Mitsubishi expressed concerns regarding procedure repeatability, variable-speed product mischaracterization, reflections of real-world building heat transfer scenarios, discrepancies with regulatory test conditions, transition period tolerances, and lack of clarity dealing with defrost and oil return cycles. (Id. at p. 2)

Carrier, Lennox, and Trane supported DOE proceeding with the January 2025 Final Rule, as finalized, without further delays to its effective date. (Carrier, No. 45 at p. 1; Lennox, No. 46 at p. 1; Trane, No. 58 at p. 2) Carrier stated that it has evaluated the CVP extensively and concluded the procedure appropriately represents the operation of variable-speed equipment, to ensure systems perform as certified. (Carrier, No. 45 at p. 2)

The CA IOUs and the Joint Advocates recommended that DOE keep the effective date of July 2025 for the January 2025 Final Rule, as published. (CA IOUs, No. 56 at pp. 1-2; Joint Advocates, No. 55 at p. 1) The Joint Advocates commented that the CVP would help ensure the tested performance of variable-speed equipment reasonably reflects field performance. (Id.)

NEEA supported the January 2025 Final Rule, including the CVP, which it asserted is critical to protect the marketplace from products with inaccurate performance claims. (NEEA, No.49 at p.1) NEEA commented in detail on the CVP, recommending several improvements that DOE could consider in the future to address concerns expressed by manufacturers. (Id. at pp. 2-6) NEEA provided specific recommendations regarding thermostat calibration, the thermal capacitance values used in the virtual building load equations, oil return cycles, multi-zone systems, and temperature ramping during transition periods. (Id. at pp. 4-6)

B. Conclusion and Proposal

In summary, multiple commenters have provided reasonable justification for further delaying implementation of the CVP enforcement provisions of the January 2025 Final Rule, with most commenters suggesting a one-year delay. In consideration of these comments, DOE has tentatively determined that delaying implementation of the CVP enforcement provisions is warranted. DOE proposes to delay implementation of the CVP provisions at 10 CFR 429.134(k)(4) established in the January 2025 Final Rule by one year until July 7, 2026. DOE requests comment on this proposal.

III. Procedural Issues and Regulatory Review

DOE concludes that the determinations made pursuant to the various procedural requirements applicable to the January 2025 Final Rule remain unchanged for this NOPR. These determinations are set forth in the January 2025 Final Rule and are adopted here. 90 FR 1224, 1268-1272.

IV. Submission of Comments

DOE will accept comments, data, and information regarding this proposed rule no later than the date provided in the DATES section at the beginning of this proposed rule. Interested parties may submit comments, data, and other information using any of the methods described in the ADDRESSES section at the beginning of this document.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email, hand delivery/courier, or postal mail. Comments and documents submitted via email, hand delivery/courier, or postal mail also will be posted to www.regulations.gov. If you do not want your personal contact information to be publicly viewable, do not include it in your comment or any accompanying documents. Instead, provide your contact information in a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. No telefacsimiles (“faxes”) will be accepted.

Comments, data, and other information submitted to DOE electronically should be provided in PDF (preferred), Microsoft Word or Excel, WordPerfect, or text (ASCII) file format. Provide documents that are not secured, written in English, and that are free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. Pursuant to 10 CFR 1004.11, any person submitting information that he or she believes to be confidential and exempt by law from public disclosure should submit via email two well-marked copies: one copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

V. Approval of the Office of the Secretary

The Secretary of Energy has approved publication of this proposed rule.

List of Subjects in 10 CFR Part 429

Administrative practice and procedure, Confidential business information, Energy conservation, Household appliances, Imports, Intergovernmental relations, Reporting and recordkeeping requirements, Small businesses.

Signing Authority

This document of the Department of Energy was signed on May 15, 2025, by Louis Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 22, 2025.
Jennifer Hartzell,
Alternate Federal Register Liaison Officer, U.S. Department of Energy.

For the reasons stated in the preamble, DOE is proposing to amend part 429 of Chapter II of Title 10, Code of Federal Regulations as set forth below:

PART 429—CERTIFICATION, COMPLIANCE, AND ENFORCEMENT FOR CONSUMER PRODUCTS AND COMMERCIAL AND INDUSTRIAL EQUIPMENT

1. The authority citation for part 429 continues to read as follows:

Authority: 42 U.S.C. 6291-6317; 28 U.S.C. 2461 note.

2. Amend § 429.134 by revising the introductory text to paragraph (k) to read as follows:

§ 429.134 Product-specific enforcement provisions.

* * * * *

(k) Central air conditioners and heat pumps. Before July 7, 2025, the provisions in this section of this title as it appeared in the 10 CFR parts 200-499 edition revised as of January 1, 2023, are applicable. On and after July 7, 2025, provisions in paragraph (k)(1), (k)(2) and (k)(3) shall apply. On and after July 7, 2026, provisions in paragraph (k)(4) shall also apply.

* * * * *

[FR Doc. 2025-09591 Filed 5-28-25; 8:45 am]

BILLING CODE 6450-01-P